DEPARTMENT OF THE INTERIOR

National Park Service

National Register of Historic Places; Notification of Pending Nominations and Related Actions

Nominations for the following properties being considered for listing or related actions in the National Register were received by the National Park Service before September 12, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by October 13, 2009.

J. Paul Loether,
Chief, National Register of Historic Places/National Historic Landmarks Program.

AMERICAN SAMOA

Western District

Kirwan, Michael J., Educational Television Center, Route 118, N. side of Utulei, Utulei, 09000842

FLORIDA

Hernando County

Spring Lake Community Center, 4184 Spring Lake Hwy., Brooksville, 09000843

Orange County

Rosemere Historic District, Roughly by E. Harvard St., N. Orange Ave., Cornell Ave. & E. Vanderbilt St., Orlando, 09000844

HAWAII

Hawaii County

Pua Akala Cabin, Papa'ikou ahupua, Hakalau NWR, Hilo, 09000845

NEVADA

Clark County

Berkley Square, Area bounded by Byrnes Ave., D St., Leonard Ave., and G St., Las Vegas, 09000846

NORTH CAROLINA

Dare County

Midgett, Rasmus, House, 25438 NC Hwy 12, Waves, 09000847

OHIO

Erie County

Feick Building, 158-160 E. Market St., Sandusky, 09000848

Geauga County

ASM Headquarters and Geodesic Dome, 9639 Kinsman Rd., Materials Park, 09000849

WISCONSIN

Dodge County

North Washington Street Historic District, N. Church St. generally bounded by O'Connell and N. Green St., N. Washington St. bounded by O'Connell and Elm Sts., Watertown, 09000850

Jefferson County

North Washington Street Historic District, N. Church St. generally bounded by O'Connell and N. Green St., N. Washington St. bounded by O'Connell and Elm Sts., Watertown, 09000850

Milwaukee County

Pittsburgh Plate Glass Enamel Plant, 201 E. Pittsburgh Ave., Milwaukee, 09000851

Request for REMOVAL has been made for the following resources:

NORTH DAKOTA

Cass County

Cole Hotel, 401-407 Northern Pacific Ave., Fargo, 83001928.

Dunn County

Dunn County Courthouse, (North Dakota County Courthouse TR), Owens St., Manning, 86000620

Sioux County

Former Sioux County Courthouse, (North Dakota County Courthouse TR), Belden St., Fort Yates, 85002993

[FR Doc. E9-23232 Filed 9-24-09; 8:45 am]

BILLING CODE P